NUCLEAR REGULATORY COMMISSION

Advisory Committee on Reactor Safeguards; Meeting of the Subcommittee on Fire Protection; Notice of Meeting

The ACRS Subcommittee on Fire Protection will hold a meeting on October 27, 2004, Room T-2B3, 11545 Rockville Pike, Rockville, Maryland.

The entire meeting will be open to public attendance.

The agenda for the subject meeting shall be as follows:

Wednesday, October 27, 2004—1:30 p.m. until 5:30 p.m.

The purpose of the meeting is to hear presentations on current rulemaking activities which would allow for the use of certain manual operator actions to satisfy the requirements of 10 CFR Part 50, Appendix R. The Subcommittee will hear presentations and hold discussions with representatives of the Office of Nuclear Reactor Regulation and other interested persons regarding this matter. The Subcommittee will gather information, analyze relevant issues and facts, and formulate proposed positions and actions, as appropriate, for deliberation by the full Committee.

Members of the public desiring to provide oral statements and/or written comments should notify the Designated Federal Official, Mr. Marvin D. Sykes (telephone 301/415-8716), five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: October 12, 2004.
John H. Flack,
Acting Branch Chief, ACRS/ACNW.

[FR Doc. 04-23391 Filed 10-18-04; 8:45 am]

BILLING CODE 7590-01-P